DEPARTMENT OF COMMERCE

National Oceanic and Atmospheric Administration

50 CFR Part 679

[Docket No. 250312-0036, RTID 0648-XF193]

Fisheries of the Exclusive Economic Zone Off Alaska; Pollock Fishing in the Winter Herring Savings Area of the Bering Sea and Aleutian Islands Management Area

AGENCY: National Marine Fisheries Service (NMFS), National Oceanic and Atmospheric Administration (NOAA), Commerce.

ACTION: Temporary rule; closure.

SUMMARY: NMFS is prohibiting directed fishing for pollock by vessels using trawl gear in the Winter Herring Savings Area of the Bering Sea and Aleutian Islands management area (BSAI). This action is necessary to prevent exceeding the 2025 herring bycatch allowance specified for the midwater pollock fishery in the BSAI. This action includes prohibiting directed fishing for pollock in the Winter Herring Savings Area by vessels participating in the Community Development Quota Program.

DATES: Effective 1200 hours, Alaska local time (A.l.t.), September 25, 2025, through 1200 hours, A.l.t., March 1, 2026.

FOR FURTHER INFORMATION CONTACT: Andrew Olson, 907-586-7228.

SUPPLEMENTARY INFORMATION: NMFS manages the groundfish fishery in the BSAI exclusive economic zone according to the Fishery Management Plan for Groundfish of the Bering Sea and Aleutian Islands Management Area (FMP) prepared and recommended by the North Pacific Fishery Management Council under authority of the Magnuson-Stevens Fishery Conservation and Management Act (Magnuson-Stevens Act). Regulations governing fishing by U.S. vessels in accordance with the FMP appear at subpart H of 50 CFR part 600 and 50 CFR part 679.

The 2025 herring bycatch allowance specified for the midwater pollock fishery in the BSAI is 2,359 metric tons as established by the final 2025 and 2026 harvest specifications for groundfish in the BSAI (90 FR 12640, March 18, 2025).

The Administrator, Alaska Region, NMFS, has determined that the 2025 herring bycatch allowance specified for the midwater pollock fishery in the BSAI has been caught. Consequently, in accordance with § 679.21(e)(7)(vi)(B)(1), NMFS is closing directed fishing for pollock by vessels using trawl gear in the Winter Herring Savings Area of the BSAI from 1200 hours, A.l.t., September 25, 2025, through 1200 hours, A.l.t., March 1, 2026. This includes prohibiting directed fishing for pollock in the Winter Herring Savings Area of the BSAI by vessels participating in the Community Development Program. The Winter Herring Savings Area is that part of the Bering Sea subarea that is between 58° and 60° North latitude and between 172° and 175° West longitude from 1200 hours, A.l.t., September 1 of the current fishing year through 1200 hours, A.l.t., March 1 of the succeeding fishing year (Figure 4 to 50 CFR part 679).

Classification

NMFS issues this action pursuant to section 305(d) of the Magnuson-Stevens Act. This action is required by 50 CFR part 679, which was issued pursuant to section 304(b) of the Magnuson-Stevens Act, and is exempt from review under Executive Order 12866.

Pursuant to 5 U.S.C. 553(b)(B), there is good cause to waive prior notice and an opportunity for public comment on this action, as notice and comment would be impracticable and contrary to the public interest, as it would prevent NMFS from responding to the most recent fisheries data on herring bycatch in a timely fashion, and would delay the closure of directed fishing for pollock by vessels using trawl gear in the Winter Herring Savings Area of the BSAI. Any delay in publishing this directed fishing closure could result in further bycatch of herring and exceedance of the herring bycatch allowance specified for the midwater pollock fishery in the BSAI. NMFS was unable to publish a notice providing time for public comment because the most recent, relevant data on herring bycatch by vessels using trawl gear directed fishing for pollock only became available as of September 24, 2025.

There is good cause under 5 U.S.C. 553(d)(3) to waive the 30-day delay in the effective date of this action. This finding is based upon the reasons provided above for waiver of prior notice and opportunity for public comment.

Authority: 16 U.S.C. 1801 et seq.

Dated: September 24, 2025.
Kelly Denit,
Director, Office of Sustainable Fisheries, National Marine Fisheries Service.

[FR Doc. 2025-18771 Filed 9-24-25; 4:15 pm]

BILLING CODE 3510-22-P